DEPARTMENT OF COMMERCE

National Oceanic and Atmospheric Administration

50 CFR Part 660

[Docket No. 250623-0110]

RIN 0648-BN19

Fisheries Off West Coast States; West Coast Salmon Fisheries; 2025 Specifications and Management Measures; Correction

AGENCY: National Marine Fisheries Service (NMFS), National Oceanic and Atmospheric Administration (NOAA), Commerce.

ACTION: Final rule; correction.

SUMMARY: NMFS established fishery management measures for the ocean salmon fisheries off Washington, Oregon, and California for the season beginning May 16, 2025, and anticipated to end May 15, 2026 (the 2025 ocean salmon fishing season), under the authority of the Magnuson-Stevens Fishery Conservation and Management Act (MSA). The final rule, published in the Federal Register on May 16, 2025, included an error in the management measures for commercial ocean salmon fisheries in the area from Humbug Mountain, Oregon, to the U.S./Mexico border. This action edits formatting and corrects an error by adding the text that was unintentionally omitted from the May 16, 2025, rule.

DATES: Effective June 24, 2025.

FOR FURTHER INFORMATION CONTACT: Shannon Penna at 562-980-4239.

SUPPLEMENTARY INFORMATION: The final rule published May 16, 2025 (90 FR 20810), describes annual management measures for managing the harvest of salmon in the ocean waters under the jurisdiction of the Pacific Fishery Management Council (Council). This correcting amendment corrects an error in the May 16, 2025, rule, by adding the number “4” to “2024” under the management measures for the commercial troll ocean salmon fishery in the area from Humbug Mountain, Oregon, to the Oregon/California border. In addition, it corrects formatting for the recreational fishery from Point Arena, California, to the U.S./Mexico border as it may confuse the interpretation of the regulations.

Need for Correction

The 2025 salmon management measures (90 FR 20810, May 16, 2025), section 1, part A, describe the commercial ocean salmon fisheries in the area from the Oregon/California border to the U.S./Mexico border. Section 2, part A, describes the recreational ocean salmon fisheries in the area from the Oregon/California border to the U.S./Mexico border. There is a transcription error in section 2, part A, of the rule. The May 16, 2025, rule omitted text in the management measures for commercial salmon troll fisheries off the coast of Oregon set to occur during the 2026 ocean salmon fishing season for fisheries opening earlier than May 16, 2026. The omitted text is the reference year for the gear restrictions in that area. This correcting amendment would insert the reference year.

In section 2, part A, there is a formatting error in the titles for the area from Point Arena, California, to the U.S./Mexico border. Under the current format, the regulations for the areas from Point Arena to Pigeon Point and Pigeon Point to the U.S./Mexico border appear to apply to only the subareas from Point Reyes to Pigeon Point and Pigeon Point to Point Sur. However, the regulations apply to the entire area from Point Arena to the U.S. Mexico border and not just the subareas. This correcting amendment adjusts the formatting to accurately describe the applicability of the regulations.

Correction

In FR Doc. 2025-08741 appearing on pages 20816 and 20819, in the Federal Register of Friday, May 16, 2025, the following corrections are made:

On page 20816, in the first column, the description of the commercial ocean salmon troll fishery under “Humbug Mountain to the Oregon/California Border” is corrected to read as follows:

Closed.

In 2026, the season will open on March 15 for all salmon except coho salmon. Gear restrictions are the same as in 2024 (89 FR 44553, May 21, 2024; 89 FR 53529, June 27, 2024).

On page 20819, in the third column, the descriptions of the recreational ocean salmon fishery under “Point Arena to Pigeon Point (San Francisco)”, “Point Reyes to Pigeon Point Subarea”, “Pigeon Point to U.S./Mexico border (Monterey)”, and “Pigeon Point to Point Sur Subarea” are corrected to read as follows:

Point Arena to Pigeon Point (San Francisco)

June 7-8

July 5-6

July 31-August 3

August 25-31.

Inseason action may be taken to close open days when total statewide harvest is approaching a statewide harvest guideline of 7,000 Chinook salmon for the summer (June-August) season.

Point Reyes to Pigeon Point Subarea:

September 4-7, 29-30;

October 1-5, 27-31.

Inseason action may be taken to close open days when total statewide harvest approaching a statewide harvest guideline of 7,500 Chinook salmon for the fall (September-October) season.

All salmon except coho salmon, two salmon per day.

In 2026, the season opens on April 4 for all salmon except coho salmon, two salmon per day. The same gear restrictions as in 2025. Inseason action to close fisheries, modify season dates, or modify the bag limit may be considered when harvest is approaching a harvest guideline.

Pigeon Point to U.S./Mexico border (Monterey)

June 7-8

July 5-6

July 31-August 3

August 25-31.

Inseason action may be taken to close open days when total statewide harvest is approaching a statewide harvest guideline of 7,000 Chinook salmon for the summer (June-August) season.

Pigeon Point to Point Sur Subarea:

September 4-7, 29-30.

Inseason action may be taken to close open days when total statewide harvest is approaching a guideline of 7,500 Chinook salmon for the fall (September-October) season.

All salmon except coho salmon, two salmon per day.

In 2026, the season opens on April 4 for all salmon except coho salmon, two salmon per day. The same gear restrictions as in 2025. Inseason action to close fisheries, modify season dates, or modify the bag limit may be considered when harvest is approaching a harvest guideline.

Classification

NMFS is issuing this rule pursuant to 305(d) of the MSA. The reason for using this regulatory authority is: In a previous action taken pursuant to section 304(b), the NMFS implemented through regulations the Council's Pacific Salmon Fishery Management Plan (FMP), authorizing NMFS to take this action pursuant to MSA section 305(d). See 50 CFR 660.408. These regulations are being promulgated under the authority of 16 U.S.C. 1855(d). The NMFS Assistant Administrator has determined that this final rule is consistent with the Pacific Coast Salmon FMP and regulations implementing the FMP, and other applicable law.

The Assistant Administrator for Fisheries, NOAA (AA) finds good cause under 5 U.S.C. 553(b)(B) to waive the requirement for prior notice and opportunity for additional public comment for this action as notice and comment would be unnecessary and contrary to the public interest. Notice and comment are unnecessary and contrary to the public interest because this action simply corrects an error in the final rule and avoids public confusion. This correction does not affect the results of analyses conducted to support management decisions in the salmon fishery nor change the total catch of salmon. In addition, it is important that the errors be corrected as quickly as possible. The correction affects fisheries that began on June 7, 2025, and corrects errors that may lead to confusion for the public and potentially impact the prosecution of fisheries. No aspect of this action is controversial and no change in operating practices in the fishery is required. For the same reasons, pursuant to 5 U.S.C. 553(d), the AA finds good cause to waive the 30-day delay in effective date.

Because prior notice and opportunity for public comment are not required for this rule by 5 U.S.C. 553, or any other law, the analytical requirements of the Regulatory Flexibility Act, 5 U.S.C. 601 et seq., are inapplicable.

This final rule is exempt from review under Executive Order 12866.

Authority: 16 U.S.C. 773-773k; 1801 et seq.

Dated: June 23, 2025.
Samuel D. Rauch, III,
Deputy Assistant Administrator for Regulatory Programs, National Marine Fisheries Service.

[FR Doc. 2025-11713 Filed 6-24-25; 8:45 am]

BILLING CODE 3510-22-P